DEPARTMENT OF ENERGY

Federal Energy Regulatory Commission

[Project No. 2452-236]

Consumers Energy Company; Notice of Intent To Prepare an Environmental Assessment

On September 2, 2022, and supplemented on November 8, 2022, March 17, 2023, and August 8, 2023, Consumers Energy Company (licensee), licensee for the Hardy Hydroelectric Project No. 2452 (project) filed an application for a non-capacity license amendment. The project is located on the Muskegon River in Newago and Mecosta counties, Michigan and does not occupy federal lands.

In collaboration with the Commission's Division of Dam Safety and Inspections, the licensee proposes to construct several modifications to the auxiliary spillway to increase its capacity and repair and upgrade the spillway discharge channel to improve stability and safety. In addition to the auxiliary spillway modifications, the licensee proposes to upgrade the dam crest to improve transportation infrastructure by replacing and widening the road on the dam crest, which would also require replacement of the access bridge to the intake tower and replacement of the existing splash wall. A Notice of Application Accepted for Filing and Soliciting Comments, Motions to Intervene, and Protest was issued on October 12, 2022. No comments were received.

This notice identifies Commission staff's intention to prepare an environmental assessment (EA) for the proposed action. The planned schedule for the completion of the EA is March 2024.¹ Revisions to the schedule may be made as appropriate. The EA will be issued and made available for review by all interested parties. All comments filed on the EA will be reviewed by staff and considered in the Commission's final decision on the proceeding.

¹ 42 U.S.C. 4336a(g)(1)(B) requires lead federal agencies to complete EAs within 1 year of the agency's decision to prepare an EA.

With this notice, the Commission is inviting federal, state, local, and Tribal agencies with jurisdiction and/or special expertise with respect to environmental issues affected by the proposal to cooperate in the preparation of the EA planned to be issued March 2024. Agencies wishing to cooperate, or further discuss the benefits, responsibilities, and obligations of the cooperating agency role, should contact staff listed at the bottom of this notice by February 13, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to David Rudisail at 202-502-6376 or David.rudisail@ferc.gov.

Dated: January 23, 2024.
Debbie-Anne A. Reese,
Acting Secretary.

[FR Doc. 2024-01731 Filed 1-29-24; 8:45 am]

BILLING CODE 6717-01-P